NATIONAL CREDIT UNION ADMINISTRATION

Sunshine Act; Notice of a Matter To Be Added to the Agenda for Consideration at an Agency Meeting

Time and Date: 10 a.m., Thursday, July 16, 2009.

Place: Board Room, 7th Floor, Room 7047, 1775 Duke Street, Alexandria, VA 22314-3428.

Status: Open.

Matter To Be Added: 5a. Revisions to Temporary Corporate Credit Union Liquidity Guarantee Program.

FOR FURTHER INFORMATION CONTACT: Mary Rupp, Secretary of the Board, Telephone: 703-518-6304

Mary Rupp,
Board Secretary.

[FR Doc. E9-17021 Filed 7-14-09; 11:15 am]

BILLING CODE 7535-01-P